DEPARTMENT OF ENERGY

Federal Energy Regulatory Commission

[Docket No. RP02-215-000]

Kinder Morgan Interstate Gas Transmission, LLC; Notice of Tariff Filing

April 2, 2002.

Take notice that on March 29, 2002 Kinder Morgan Interstate Gas Transmission LLC (KMIGT) tendered for filing to become part of KMIGT's FERC Gas Tariff, the following revised tariff sheets, to become effective May 1, 2002:

Fourth Revised Volume No. 1-A

Third Revised Sheet No. 11

Original Sheet No. 37A

Original Sheet No. 93A

Fourth Revised Volume No. 1-B

Third Revised Sheet No. 32

Second Revised Sheet No. 33

Fourth Revised Sheet No. 43

KMIGT states that it is making this tariff filing to add a new appendix to its Firm Transportation Service Agreement and to its No Notice Service Agreement and to change and update certain sections of KMIGT's FERC Gas Tariff.

KMIGT states that a copy of this filing has been served upon all of its customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8416 Filed 4-5-02; 8:45 am]

BILLING CODE 6717-01-P